DEPARTMENT OF ENERGY

Federal Energy Regulatory Commission

Combined Notice of Filings #1

Take notice that the Commission received the following Complaints and Compliance filings in EL Dockets:

Docket Numbers: EL22-15-000.

Applicants: New York Power Authority.

Description: Petition for Declaratory Order of New York Power Authority.

Filed Date: 11/23/21.

Accession Number: 20211123-5231.

Comment Date: 5 p.m. ET 12/23/21.

Take notice that the Commission received the following electric rate filings:

Docket Numbers: ER22-231-001.

Applicants: Midcontinent Independent System Operator, Inc., American Transmission Company LLC.

Description: Tariff Amendment: Midcontinent Independent System Operator, Inc. submits tariff filing per 35.17(b): 2021-11-29_SA 3730 ATC-New Glarus Sub D-T to be effective 12/28/2021.

Filed Date: 11/29/21.

Accession Number: 20211129-5229.

Comment Date: 5 p.m. ET 12/20/21.

Docket Numbers: ER22-484-000.

Applicants: Ford County Wind Farm LLC.

Description: Baseline eTariff Filing: Application for Market Based Rate Authority to be effective 12/1/2021.

Filed Date: 11/29/21.

Accession Number: 20211129-5185.

Comment Date: 5 p.m. ET 12/20/21.

Docket Numbers: ER22-485-000.

Applicants: PJM Interconnection, L.L.C.

Description: Tariff Amendment: Notice of Cancellation of ISA, SA No. 4881; Queue No. AA2-017 to be effective 12/11/2021.

Filed Date: 11/29/21.

Accession Number: 20211129-5210.

Comment Date: 5 p.m. ET 12/20/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 29, 2021.
Kimberly D. Bose,
Secretary.

[FR Doc. 2021-26280 Filed 12-2-21; 8:45 am]

BILLING CODE 6717-01-P